DEPARTMENT OF TRANSPORTATION

Federal Aviation Administration

14 CFR Part 71

[Docket No. FAA-2004-16904; Airspace Docket No. 04-ASO-2]

Establishment of Class E5 Airspace; Jamestown, KY; Correction

AGENCY: Federal Aviation Administration (FAA), DOT.

ACTION: Correcting amendment.

SUMMARY: This document contains a correction to the final rule (FAA-2004-16904; 04-ASO-2), which was published in the Federal Register on March 23, 2004, (69 FR 13470), establishing Class E5 airspace at Jamestown, KY. This action corrects an error in the legal description for the Class E5 airspace at Russell County Airport, KY.

EFFECTIVE DATE: Effective 0901 UTC, June 10, 2004.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

Background

Federal Register Document 04-6453, Docket No. FAA-2004-16904; Airspace Docket 04-ASO-2, published on March 23, 2004, (69 FR 13470), establishes Class E5 airspace at Russell County Airport, KY. An error was discovered in the legal description, describing the Class E5 airspace area. The word “mile” was inadvertently omitted after 6.5 and before the word radius. This action corrects the error.

Designations for Class E Airspace Areas Extending Upward from 700 feet or More Above the Surface of the Earth are published in Paragraph 6005 of FAA Order 7400.9L, Airspace Designations and Reporting Points, dated September 2, 2003, and effective September 16, 2003, which is incorporated by reference in 14 CFR 71.1. The Class E airspace designation listed in this document will be published subsequently in the Order.

Need for Correction

As published, the final rule contains an error, which inadvertently omits the word “mile”. Accordingly, pursuant to the authority delegated to me, the legal description for the Class E5 airspace area at Jamestown, KY, incorporated by reference at § 71.1, 14 CFR 71.1, and published in the Federal Register on March 23, 2004, (69 FR 16904), is corrected by making the following correcting amendment.

List of Subjects in 14 CFR Part 71

Airspace, Incorporation by reference, Navigation (air).

In consideration of the foregoing, the Federal Aviation Administration corrects the adopted amendment, 14 CFR Part 71, by making the following correcting amendment:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR 1959-1963 Comp., p. 389.

§ 71.1 [Corrected]

2. The incorporation by reference in 14 CFR 71.1 of Federal Aviation Administration Order 7400.9L, Airspace Designations and Reporting Points, dated September 2, 2003, and effective September 16, 2003, is amended as follows: Paragraph 6005 Class E Airspace Areas Extending Upward from 700 feet or More Above the Surface of the Earth.

* * * * *

ASO KY 5E Jamestown, KY [Corrected]

Russell County Airport, KY

(Lat. 37°00′32″ N., long. 85°06′10″ W.)

That airspace extending upward from 700 feet above the surface within a 6.5-mile radius of Russell County Airport.

* * * * *

Issued in College Park, Georgia on March 31, 2004.
Jeffrey U. Vincent,
Acting Manager, Air Traffic Division, Southern Region.

[FR Doc. 04-8359 Filed 4-12-04; 8:45 am]

BILLING CODE 4910-13-M